FARM CREDIT ADMINISTRATION

Farm Credit Administration Board; Special Meeting

AGENCY: Farm Credit Administration.

SUMMARY: Notice is hereby given, pursuant to the Government in the Sunshine Act (5 U.S.C. 552b(e)(3)), of the special meeting of the Farm Credit Administration Board (Board).

DATES: The special meeting of the Board will be held at the offices of the Farm Credit Administration in McLean, Virginia, on March 28, 2003, from 9 a.m. until such time as the Board concludes its business.

FOR FURTHER INFORMATION CONTACT: Jeanette C. Brinkley, Secretary to the Farm Credit Administration Board, (703) 883-4009, TTY (703) 883-4056.

ADDRESSES: Farm Credit Administration, 1501 Farm Credit Drive, McLean, Virginia 22102-5090.

SUPPLEMENTARY INFORMATION: Parts of this meeting of the Board will be open to the public (limited space available), and parts will be closed to the public. In order to increase the accessibility to Board meetings, persons requiring assistance should make arrangements in advance. The matters to be considered at the meeting are:

Open Session

A. Approval of Minutes

—February 19, 2003 (open and closed).

B. Reports

—OFI lending issues.

—Establishment of system institutions as cooperatives.

—Strategic Plan—First Quarter Goal Status Report.

C. New Business—Regulations

—Capital/technical amendments—final rule.

Closed Session*

Reports

—Examination issues.

—Examination issues.

______

*Session Closed-Exempt pursuant to 5 U.S.C. 552b(c)(8).

Dated: March 20, 2003.
Jeanette C. Brinkley,
Secretary, Farm Credit Administration Board.

[FR Doc. 03-7034 Filed 3-20-03; 1:12 pm]

BILLING CODE 6705-01-P